DEPARTMENT OF THE INTERIOR

National Park Service

[NPS-WASO-NRNHL-DTS#-35503; PPWOCRADI0, PCU00RP14.R50000]

National Register of Historic Places; Notification of Pending Nominations and Related Actions

AGENCY: National Park Service, Interior.

ACTION: Notice.

SUMMARY: The National Park Service is soliciting electronic comments on the significance of properties nominated before March 11, 2023, for listing or related actions in the National Register of Historic Places.

DATES: Comments should be submitted electronically by April 11, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 11, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

FLORIDA

Miami-Dade County

Flori-Coral Apartments, 1250 SW 6 St., Miami, SG100008861

Putnam County

Lincoln Lane School (Florida's Historic Black Public Schools MPS), 116 Lincoln Ln., Interlachen, MP100008856

Interlachen Academy, 108 North Cty. Rd. 315, Interlachen, SG100008857

ILLINOIS

Cook County

Corbin, Dr. Joseph Carter, Gravesite, 863 Des Plaines Ave., Forest Park, SG100008842

Effingham County

Heart Theater, 133 East Jefferson Ave., Effingham, SG100008843

Livingston County

Memorial Bandstand of Long Point, Village Park bordered by Main, 4th, 3rd and Park Sts., Long Point, SG100008844

Strevell House, 401 West Livingston St., Pontiac, SG100008845

NEW YORK

Monroe County

Oak Hill Country Club, 145 Kilbourn Rd., Pittsford vicinity, SG100008862

NORTH CAROLINA

Buncombe County

Craggy Historic District, 8, 10, 18, and 22 Old Leicester Hwy., Woodfin, SG100008847

Forsyth County

Hanes, Alexander S. and Mary R., House, 525 North Hawthorne Rd., Winston-Salem, SG100008851

Gaston County

Flint Mill No. 2—Burlington Industries, Inc. Plant, 1910 Hunt Ave., Gastonia, SG100008852

Guilford County

Downtown Greensboro Historic District (Boundary Increase and Decrease) (Greensboro MPS), Roughly bounded by Davie, North Elm, North and South Green, East and West Lewis, West Market, and West Washington Sts., East and West Friendly and Summit Aves., West Gate City Blvd., and Southern Railway right of way, Greensboro, BC100008850

Hyde County

Davis School, 33460, 33478 US 264, Engelhard, SG100008848

Iredell County

Mooresville Water Pump and Filter Plant, 422 West Moore Ave., Mooresville, SG100008853

Wake County

Mutschler, William and Barbara, House, 1320 Country Club Dr., Wake Forest, SG100008854

Watauga County

Blue Ridge Tourist Court, 574, 560 Old East King St., 173, 187, 191 Cecil Miller Rd., Boone, SG100008846

TEXAS

Travis County

Hanako House, 4022 Greenhill Pl., Austin, SG100008841

WISCONSIN

Milwaukee County

Wauwatosa Cemetery Chapel, 2445 Wauwatosa Ave., Wauwatosa, SG100008855

Additional documentation has been received for the following resources:

MISSISSIPPI

Jackson County

Scranton Historic District (Additional Documentation) (Pascagoula MPS), Roughly bounded by Krebs Ave., Pascagoula St., Convent Ave., and Frederic St., Pascagoula, AD100007019, Comment period: 0 days

NORTH CAROLINA

Guilford County

Downtown Greensboro Historic District (Additional Documentation) (Greensboro MPS), Roughly bounded by Davie, North Elm, North and South Green, East and West Lewis, West Market, and West Washington Sts., East and West Friendly and Summit Aves., West Gate City Blvd., and Southern Railway right of way, Greensboro, MP82003458

Authority: Section 60.13 of 36 CFR part 60.

Dated: March 15, 2023.
Sherry A. Frear,
Chief, National Register of Historic Places/National Historic Landmarks Program.

[FR Doc. 2023-06206 Filed 3-24-23; 8:45 am]

BILLING CODE 4312-52-P